NUCLEAR REGULATORY COMMISSION

[NRC-2008-0361]

Notice of Availability for Comment of Draft Standard Review Plan for Renewal of Independent Spent Fuel Storage Installation Licenses and Dry Cask Storage System Certificates of Compliance

AGENCY: U.S. Nuclear Regulatory Commission.

ACTION: Notice of availability and opportunity to provide comments.

DATES: Comments must be provided by December 21, 2009.

FOR FURTHER INFORMATION CONTACT: Ata Istar, Structural Mechanics and Materials Branch, Division of Spent Fuel Storage and Transportation Division, Office of Nuclear Material Safety and Safeguards, U.S. Nuclear Regulatory Commission, Washington, DC 20005-0001. Telephone: (301) 492-3409; fax number: (301) 492-3342; e-mail: ata.istar@nrc.gov.

SUPPLEMENTARY INFORMATION:

I. Introduction

The Nuclear Regulatory Commission (NRC) has prepared a draft Standard Review Plan (SRP) NUREG-1927, entitled “Standard Review Plan for Renewal of Independent Spent Fuel Storage Installation Licenses and Dry Cask Storage System Certificate of Compliance.” This draft SRP would provide guidance to the NRC staff when reviewing Safety Analyses Reports submitted by applicants for renewals of specific Independent Spent Fuel Storage Installation licenses or dry cask storage system certificates of compliance under 10 CFR part 72. This draft SRP is related to the proposed rule published in the Federal Register on September 15, 2009 (74 FR 47126). The NRC is soliciting public comments on this draft SRP, which will be considered before the NRC issues the final version.

II. Further Information

Documents related to this action are available electronically at the NRC's Electronic Reading Room at http://www.nrc.gov/reading-rm/adams.html. From this site, you can access the NRC's Agencywide Documents Access and Management System (ADAMS), which provides text and image files of NRC's public documents. The ADAMS accession numbers for the documents related to this notice are provided in the following table. If you do not have access to ADAMS or if there are problems in accessing the documents located in ADAMS, contact the NRC Public Document Room (PDR) reference staff at 1-800-397-4209, 301-415-4737, or by e-mail to ata.istar@nrc.gov.

Interim staff guidance documents | ADAMS accession No.
Draft of SRP NUREG-1927 | ML092510340.

These documents may also be viewed electronically on the public computers located at the NRC's PDR, O-1 F21, One White Flint North, 11555 Rockville Pike, Rockville, MD 20852. The PDR reproduction contractor will copy documents for a fee. Comments and questions on this draft SRP should be directed to Ata Istar, Structural Mechanics and Materials Branch, Division of Spent Fuel Storage and Transportation, Office of Nuclear Materials Safety and Safeguards, U.S. Nuclear Regulatory Commission, Washington, DC 20005-0001 by December 21, 2009. Comments received after this date will be considered if it is practical to do so, but assurance of consideration cannot be given to comments received after this date. Comments can also be submitted by telephone, fax, or e-mail to the following: Telephone: (301) 492-3409; fax number: (301) 492-3342; e-mail: ata.istar@nrc.gov.

Dated at Rockville, Maryland, this 29th day of September 2009.
For the U.S. Nuclear Regulatory Commission.
Christopher M. Regan,
Chief, Structural Mechanics and Materials Branch, Division of Spent Fuel Storage and Transportation, Office of Nuclear Material Safety and Safeguards.

[FR Doc. E9-24051 Filed 10-5-09; 8:45 am]

BILLING CODE 7590-01-P